FEDERAL RETIREMENT THRIFT INVESTMENT BOARD

Sunshine Act; Notice of Meeting

Time and Date: 10 a.m. (Eastern Time), August 18, 2008.

Place: 4th Floor Conference Room, 1250 H Street, NW., Washington, DC 20005.

Status: Parts will be open to the public and parts closed to the public.

Matters to be Considered:

Parts Open to the Public

1. Approval of the minutes of the July 21, 2008 Board member meeting

2. Thrift Savings Plan activity report by the Executive Director

a. Monthly Participant Activity Report

b. Legislative Report

c. Investment Performance Report

3. Report on Potential Risk of Loss to TSP Assets as a result of the Theoretical Insolvency of Barclays Global Investors

Parts Closed to the Public

4. Procurement

Contact Person for More Information: Thomas J. Trabucco, Director, Office of External Affairs, (202) 942-1640.

Dated: August 8, 2008.
Thomas K. Emswiler,
Secretary, Federal Retirement Thrift Investment Board.

[FR Doc. E8-18682 Filed 8-8-08; 12:00 pm]

BILLING CODE 6760-01-P